DEPARTMENT OF THE INTERIOR

Fish and Wildlife Service

Proposed Information Collection; OMB Control Number 1018-0094; Federal Fish and Wildlife License/Permit Applications, Native Endangered and Threatened Species, 50 CFR 13 and 17

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC, which is scheduled to expire on September 30, 2007. We may not conduct or sponsor and a person is not required to respond to a collection of information unless it displays a currently valid OMB control number.

DATES: You must submit comments on or before May 15, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

Our Endangered Species Program uses information that we collect on permit applications to determine the eligibility of applicants for permits requested in accordance with the criteria in various Federal wildlife conservation laws, including:

(1) Endangered Species Act (16 U.S.C. 1531 et seq.).

(2) Migratory Bird Treaty Act (16 U.S.C. 703 et seq.).

(3) Lacey Act (16 U.S.C. 3371 et seq.).

(4) Bald and Golden Eagle Protection Act (16 U.S.C. 668).

(5) Marine Mammal Protection Act (16 U.S.C. 1374).

Service regulations implementing these statutes and treaties are in Chapter I, Subchapter B of Title 50 of the Code of Federal Regulations (CFR). These regulations stipulate general and specific requirements that when met allow us to issue permits to authorize activities that are otherwise prohibited. This IC includes the following permit application forms and the reporting requirements for each permit:

(1) FWS Form 3-200-54 - Enhancement of Survival Permits Associated with Safe Harbor Agreements and Candidate Conservation Agreements with Assurances.

(2) FWS Form 3-200-55 - Permits for Scientific Purposes, Enhancement of Propagation or Survival (i.e, Recovery) and Interstate Commerce.

(3) FWS Form 3-200-56 - Incidental Take Permits Associated with a Habitat Conservation Plan.

II. Data

OMB Control Number: 1018-0094.

Title: Federal Fish and Wildlife License/Permit Applications, Native Endangered and Threatened Species, 50 CFR 13 and 17.

Service Form Number(s): 3-200-54, 3-200-55, and 3-200-56.

Type of Request: Revision of currently approved collection.

Affected Public: Individuals/households, businesses, State and local agencies, private organizations, and scientific and research institutions.

Respondent's Obligation: Required to obtain or retain a benefit.

Frequency of Collection: On occasion for application forms and notifications; annually for reports..

Estimated Annual Nonhour Burden: $64,450 for fees associated with permit applications.

Activity | Number of annual respondents | Number of annual responses | Completion time per response | Annual burden hours
3-200-54 - permit application | 11 | 11 | 3 hours | 33
3-200-54 - annual report | 64 | 64 | 8 hours | 512
3-200-54 - notification of change in landowner | 1 | 1 | 1 hour | 1
2-200-55 - permit application | 579 | 579 | 4 hours | 2,316
3-200-55 - annual report | 1,034 | 1,034 | 8 hours | 8,272
3-200-55 - notification of escape of living wildlife | 1 | 1 | 1 hour | 1
3-200-56 - permit application | 60 | 60 | 3 hours | 180
3-200-56 - annual report | 748 | 748 | 10 hours | 7,480
Totals | 2,498 | 2,498 |  | 18,795

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this IC.

Dated: March 1, 2007
Hope Grey,
Information Collection Clearance Officer, Fish and Wildlife Service.

FR Doc. E7-4843 Filed 3-15-07; 8:45 am

BILLING CODE 4310-55-S